DEPARTMENT OF EDUCATION

Membership of the Performance Review Board

Correction

In notice document 2013-30136 appearing on pages 76598 through 76599 in the issue of Wednesday, December 18, 2013, make the following correction:

On page 76598, the list appearing in columns two and three is corrected to read as set forth below.

ANDERSON, JO

ANDERSON, MARGO K.

ANTHONY, PERRY E.

BAKER, JEFFREY S.

BATTLE, SANDRA G.

BETKA, SUE E.

BUCKLEY, SEAN P.

CANELLOS, ERNEST C.

CARR, PEGGY G.

CARTER, DENISE L.

CHAVEZ, ANTHONY S.

CHISM, MONIQUE M.

CONATY, JOSEPH C.

CULATTA, RICHARD

DANN-MESSIER, BRENDA J.

DAVIS, CONSTANCE T.

DELISLE, DEBORAH S.

EASTON, JOHN Q.

ELIADIS, PAMELA D.

ELLIS, KATHRYN A.

FEELY, HARRY M.

GALANTER, SETH M.

GARLAND, TERESA A.

GIL, LIBIA S.

GOMEZ, GABRIELLA

GONIPROW, ALEXANDER

GRAHAM, DARRELL W.

GREWAL, SATYAMDEEP S.

HALL, LINDA W.

HAMMOND, PEIRCE A. III

HARRIS, DANNY A.

HURT, JOHN W. III

JENKINS, HAROLD B.

KANTER, MARTHA JANE

KEAN, LARRY G.

KIM, ROBERT

KOEPPEL, DENNIS

LABRECK, JANET L.

LAKIN, KENNETH CHARLES

LHAMON, CATHERINE E.

LIM, JEANETTE J.

LUCZAK, RONALD J.

MAESTRI, PHILIP A.

MALAM, PAMELA R.

MANNING, JAMES F.

MARIANI, TYRA A.

MCFADDEN, ELIZABETH

MCLAUGHLIN, MAUREEN A.

MICELI, JULIE

MOORE, KENNETH R.

MUSGROVE, MELODY B.

OSGOOD, DEBORA L.

PENDLETON, AUDREY J.

PEPIN, ANDREW J.

REYNOLDS, CYNTHIA L.

RIDDLE, PAUL N.

ROPELEWSKI, JAMES LYNCH

ROSENFELT, PHILIP H.

RYDER, RUTH E.

SANTY, ROSS C. JR.

SASSER, TRACEY L.

SHELTON, JAMES H.

SKELLY, THOMAS P.

SOLTIS, TIMOTHY F.

STRACKE, LINDA A.

STUDLEY, JAMIENNE S.

STYLES, KATHLEEN M.

SWENSON, SUE ELLEN

THOMAS, MILTON L. JR.

UVIN, JOHAN E.

VADEHRA, EMMA

WANG, SHANWEI

WEKO, THOMAS J.

WHALEN, ANTONIA

WILBANKS, LINDA R.

WILLIAMS, JERRY E.

WILLS, RANDOLPH E.

WINCHELL, SUSAN A.

WOOD, GARY H.

WOOD, HAMILTON E. JR.

EL KEITH

YUDIN, MICHA

[FR Doc. C1-2013-30136 Filed 1-3-14; 8:45 am]

BILLING CODE 1505-01-D